DEPARTMENT OF COMMERCE

International Trade Administration

[A-588-702, A-580-813, and A-583-816]

Final Results of Expedited Sunset Reviews: Certain Stainless Steel Butt-Weld Pipe and Tube Fittings From Japan, South Korea, and Taiwan

AGENCY: Import Administration, International Trade Administration, Department of Commerce.

ACTION: Notice of Final Results of Expedited Sunset Reviews: Certain Stainless Steel Butt-Weld Pipe and Tube Fittings from Japan, South Korea and Taiwan.

SUMMARY: On July 1, 1999, the Department of Commerce (“the Department”) initiated sunset reviews of the antidumping duty orders on certain stainless steel butt-weld pipe and tube fittings (“pipe and tube fittings”) from Japan, South Korea (“Korea”), and Taiwan (64 FR 35588) pursuant to section 751(c) of the Tariff Act of 1930, as amended (“the Act”). On the basis of a notice of intent to participate and an adequate response filed on behalf of a domestic interested party and inadequate response (in these cases, no response) from respondent interested parties in each of these reviews, the Department decided to conduct expedited reviews. As a result of these reviews, the Department finds that revocation of the antidumping duty orders would be likely to lead to the continuation or recurrence of dumping at the levels indicated in the Final Results of Reviews section of this notice.

For Further Information Contact: Mark D. Young or Melissa G. Skinner, Office of Policy for Import Administration, International Trade Administration, U.S. Department of Commerce, 14th Street and Constitution Avenue, NW, Washington, DC 20230; telephone: (202) 482-6397 or (202) 482-1560, respectively.

EFFECTIVE DATE: February 4, 2000.

Statute and Regulations

These reviews were conducted pursuant to sections 751(c) and 752 of the Act. The Department's procedures for conducting sunset reviews are set forth in Procedures for Conducting Five-year (“Sunset”) Reviews of Antidumping and Countervailing Duty Orders, 63 FR 13516 (March 20, 1998) (“Sunset Regulations”), and 19 CFR part 351 (1999) in general. Guidance on methodological or analytical issues relevant to the Department's conduct of sunset reviews is set forth in the Department's Policy Bulletin 98:3—Policies Regarding the Conduct of Five-year (“Sunset”) Reviews of Antidumping and Countervailing Duty Orders; Policy Bulletin, 63 FR 18871 (April 16, 1998) (“Sunset Policy Bulletin”).

Scope

The products covered by these reviews include certain stainless steel butt-weld pipe and tube fittings. These fittings are used in piping systems for chemical plants, pharmaceutical plants, food processing facilities, waste treatment facilities, semiconductor equipment applications, nuclear power plants and other areas. The subject merchandise are currently classifiable under the Harmonized Tariff Schedule of the United States (“HTSUS”) item number 7307.23.00.00. The HTSUS item number is provided for convenience and customs purposes. The written description remains dispositive.

With respect to the order on subject imports from Japan and Taiwan, the Department has made several scope rulings. The following products were determined to be within the scope of the order:

Product within scope | Importer | Citation
Superclean or ultraclean pipe fittings from Japan | Benkan Corporation | 56 FR 1801 (January 17, 1991).
A774 type stainless steel pipe fittings from Taiwan | Tachia Yung Ho | 58 FR 28556 (May 14, 1993).
Cast butt-weld pipe fittings from Taiwan | Eckstrom Industries | Eckstrom Ind. v. United States, Court No. 97-10-01913, Slip. Op., 99-99 (Ct. Int'l Trade Sept. 20, 1999).

The following products were determined to be outside the scope of the order:

Product outside scope | Importer | Citation
Certain gasket raised face seal sleeves and certain stainless steel “Fine-fit” tube fittings imported from Japan | Fujikin of America, Inc | 60 FR 54212 (October 20, 1995).
Stainless steel tube fittings with non-welded end connection, and other products from Taiwan | Top Line Process Equipment Corporation | 60 FR 54213 (October 20, 1995).
Primet joint metal seal fittings and primet joint weld fittings from Japan | Daido | 61 FR 5533 (February 13, 1996).
Sleeves of clean vacuum couplings and super-clean microfittings from Japan | Benkan | 61 FR 5533 (February 13, 1996).
Superclean fittings from Japan | Benkan UCT Corporation | 61 FR 40194 (August 1, 1996).

These reviews cover imports from all manufacturers and exporters of pipe and tube fittings from Japan, Korea, and Taiwan.

History of the Orders

Japan

The Department published its final affirmative determination of sales at less than fair value (“LTFV”) with respect to imports of pipe and tube fittings from Japan on February 4, 1988 (53 FR 3227). In this determination, the Department published three weighted-average dumping margins (which included a de minimis margin ¹) and an “all others” rate. The Department published its antidumping duty order on pipe and tube fittings from Japan on March 25, 1988.² The Department has conducted four administrative reviews of this order since its imposition.³ In each of the four reviews we calculated one company-specific margin. The order remains in effect for all manufacturers and exporters of the subject merchandise from Japan, other than Fuji who was excluded from the antidumping duty order.

¹ One of the three companies investigated, Fuji Acetylene Industries Co., Ltd. (“Fuji”), was excluded from the antidumping duty order, since the Department found that it had a de minimis dumping margin.

² See Antidumping Duty Order: Certain Stainless Steel Butt-Weld Pipe and Tube Fittings from Japan, 53 FR 9787 (March 25, 1988).

³ See Stainless Steel Butt-Weld Pipe and Tube Fittings from Japan; Final Results of Antidumping Duty Administrative Review, 56 FR 14922 (April 12, 1991); 56 FR 20592 (May 6, 1991); 57 FR 46372 (October 8, 1992); 59 FR 12240 (March 16, 1994).

Korea

The Department published its final affirmative determination of sales at LTFV with respect to imports of pipe and tube fittings from Korea on December 29, 1992 (57 FR 61881). In this determination, the Department published weighted-average dumping margins for one company and an “all others” rate. The Department published its antidumping duty order on pipe and tube fittings from Korea on February 23, 1993.⁴ The Department has not conducted an administrative review of this order since its imposition. The order remains in effect for all manufacturers and exporters of the subject merchandise from Korea.

⁴ See Antidumping Duty Order: Certain Stainless Steel Butt-Weld Pipe and Tube Fittings from Korea, 58 FR 11029 (February 23, 1993).

Taiwan

On May 14, 1993, the Department issued its final affirmative determination of sales at LTFV regarding pipe and tube fittings from Taiwan (58 FR 28556). In this determination, the Department published weighted-average dumping margins for three companies and an “all others” rate. The Department subsequently published an amended final determination and antidumping duty order on June 16, 1993.⁵ Since the order was issued, the Department has completed three administrative reviews with respect to pipe and tube fittings from Taiwan.⁶ The order remains in effect for all manufacturers and exporters of the subject merchandise from Taiwan.

⁵ See Amended Final Determination and Antidumping Duty Order: Certain Stainless Steel Butt-Weld Pipe and Tube Fittings from Taiwan, 58 FR 33250 (June 16, 1993).

⁶ See Certain Stainless Steel Butt-Weld Pipe Fittings From Taiwan: Final Results of Antidumping Duty Administrative Review, 63 FR 67855 (December 9, 1998) ( 3rd review); 65 FR 2116 (January 13, 2000) (1st & 2nd review).

Background

On July 1, 1999, the Department initiated sunset reviews of the antidumping duty orders on pipe and tube fittings from Japan, Korea, and Taiwan (64 FR 35588), pursuant to section 751(c) of the Act. We received Notices of Intent To Participate in each of the three sunset reviews, on behalf of Alloy Piping Products, Inc. (“Alloy”), Flowline Division of Markovitz Enterprises, Inc. (“Flowline”), Gerlin, Inc. (“Gerlin”), and Taylor Forge Stainless, Inc. (“Taylor”) (collectively “domestic interested parties”), by July 16, 1999, within the deadline specified in § 351.218(d)(1)(i) of the Sunset Regulations. Pursuant to section 771(9)(C) of the Act, the domestic interested parties claimed interested-party status as U.S. manufacturers whose workers are engaged in the production of domestic like products. Moreover, the domestic interested parties stated that they have been involved in these proceedings since their inception. The Department received complete substantive responses from the domestic interested parties by August 2, 1999, within the 30-day deadline specified in the Sunset Regulations under § 351.218(d)(3)(i). We did not receive a substantive response from any respondent interested party to these proceedings. As a result, pursuant to 19 CFR 351.218(e)(1)(ii)(C), the Department determined to conduct expedited, 120-day, reviews of these orders.

In accordance with section 751(c)(5)(C)(v) of the Act, the Department may treat a review as extraordinarily complicated if it is a review of a transition order (i.e., an order in effect on January 1, 1995). The reviews at issue concern transition orders within the meaning of section 751(c)(6)(C)(ii) of the Act. Therefore, the Department determined that the sunset reviews of the antidumping duty orders on pipe and tube fittings from Japan, Korea, and Taiwan are extraordinarily complicated and extended the time limit for completion of the final results of these reviews until not later than January 27, 2000, in accordance with section 751(c)(5)(B) of the Act.⁷

⁷ See Extension of Time Limit for Final Results of Five-Year Reviews, 64 FR 62167 (November 16, 1999).

Although the deadline for this determination was originally January 27, 2000, due to the Federal Government shutdown on January 25 and 26, 2000, resulting from inclement weather, the time frame for issuing this determination has been extended by one day.

Determination

In accordance with section 751(c)(1) of the Act, the Department conducted these reviews to determine whether revocation of the antidumping duty orders would be likely to lead to continuation or recurrence of dumping. Section 752(c) of the Act provides that, in making these determinations, the Department shall consider the weighted-average dumping margins determined in the investigation and subsequent reviews and the volume of imports of the subject merchandise for the period before and the period after the issuance of the antidumping duty order, and it shall provide to the International Trade Commission (“the Commission”) the magnitude of the margins of dumping likely to prevail if the order were revoked.

The Department's determinations concerning continuation or recurrence of dumping and the magnitude of the margins are discussed below. In addition, parties' comments with respect to continuation or recurrence of dumping and the magnitude of the margins are addressed within the respective sections below.

Continuation or Recurrence of Dumping

Drawing on the guidance provided in the legislative history accompanying the Uruguay Round Agreements Act (“URAA”), specifically the Statement of Administrative Action (“the SAA”), H.R. Doc. No. 103-316, vol. 1 (1994), the House Report, H.R. Rep. No. 103-826, pt.1 (1994), and the Senate Report, S. Rep. No. 103-412 (1994), the Department issued its Sunset Policy Bulletin providing guidance on methodological and analytical issues, including the bases for likelihood determinations. In its Sunset Policy Bulletin, the Department indicated that determinations of likelihood will be made on an order-wide basis. See Sunset Policy Bulletin, 63 FR at 18872. In addition, the Department indicated that normally it will determine that revocation of an antidumping duty order is likely to lead to continuation or recurrence of dumping where (a) dumping continued at any level above de minimis after the issuance of the order, (b) imports of the subject merchandise ceased after the issuance of the order, or (c) dumping was eliminated after the issuance of the order and import volumes for the subject merchandise declined significantly. See Id.

In addition to considering the guidance on likelihood cited above, section 751(c)(4)(B) of the Act provides that the Department shall determine that revocation of the order would be likely to lead to continuation or recurrence of dumping where a respondent interested party waives its participation in the sunset review. In these instant reviews, the Department did not receive a substantive response from any respondent interested party. Pursuant to § 351.218(d)(2)(iii) of the Sunset Regulations, this constitutes a waiver of participation.

In their substantive responses, the domestic interested parties argue that revocation of these antidumping duty orders would likely lead to a continuation or recurrence of dumping by Japanese, Korean, and Taiwanese, producers/manufacturers. They argue further that since the imposition of the antidumping duty orders, most respondents have continued to dump in the U.S. market and have reduce their sales of pipe and tube fittings dramatically. The domestic interested parties argue that this demonstrates the inability of the producers from subject countries to sell in the United States at any significant volume without dumping. Therefore, they assert, were the antidumping duty orders revoked, it is likely that Japanese, Korean, and Taiwanese producers would need to dump in order to sell their pipe and tube fittings in any significant quantities in the United States.

Japan

The domestic interested parties argue that the imposition of the antidumping duty order had a dramatic effect on subject import volumes from Japan. They indicate that in the years following the order, Japanese imports have averaged 13 percent of their pre-order levels. Moreover, they assert, the dumping margins for Japanese manufacturers continue at significant levels. In sum, the domestic interested parties argue, the dramatic decline in import volumes following the imposition of the order in conjunction with continued margins of dumping indicates that dumping by Japanese pipe and tube fitting producers is likely to continue or recur in the event of revocation of the order.⁸

⁸ See August 2, 1999, Substantive Response of the Domestic Interested Parties regarding pipe and tube fittings from Japan at 12.

Korea

With respect to subject merchandise from Korea, the domestic interested parties maintain that, in the year the order was imposed, imports from Korea fell to 4,228 pounds from approximately 523,619 pounds the year before. They argue further that, in the years following the imposition of the order, average import volumes of the subject merchandise were more than 90 percent lower than in the years preceeding the issuance of the order. Therefore, the domestic interested parties argue that the near cessation of imports from Korea demonstrates that Korean manufacturers need to dump pipe and tube fittings in the U.S. market in order to sell at pre-order volumes. To support this conclusion the domestic interested parties assert that dumping margins for all Korean manufacturers of pipe and tube fittings are extraordinarily high at 21.2 percent. Yet, they contend, Korean manufacturers never availed themselves of the administrative review process to demonstrate that their dumping has ceased or abated.⁹

⁹ See August 2, 1999, Substantive Response of the Domestic Interested Parties regarding pipe and tube fittings from Korea at 13.

Taiwan

The domestic interested parties assert that only one Taiwanese respondent has had dumping margins below de minimis levels since the issuance of the order. They argue that, following the issuance of the order, imports from Taiwan dropped to a level far below their pre-order level and have never been more than 50 percent of their pre-order level. The domestic interested parties conclude that Taiwanese importers need to dump pipe and tube fittings in the U.S. market in order to sell at pre-order volumes. To corroborate this conclusion, the domestic interested parties note that the dumping margins for all but one Taiwanese manufacturer are extraordinarily high and yet, they have never availed themselves of the administrative review process to demonstrate that their dumping has abated.¹⁰

¹⁰ See August 2, 1999, Substantive Response of the Domestic Interested Parties regarding pipe and tube fittings from Taiwan at 14.

General Discussion

If companies continue dumping with the discipline of an order in place or imports ceased after the issuance of the order, the Department may reasonably infer that dumping would continue or recur if the discipline were removed. See section II.A.3 of the Sunset Policy Bulletin and the SAA at 890, and the House Report at 63-64. As pointed out above, dumping margins at levels above de minimis continue to exist for shipments of the subject merchandise from Japan, Korea, and Taiwan.

Consistent with section 752(c) of the Act, the Department also considers the volume of imports before and after issuance of the order. As outlined in each respective section above, the domestic interested parties argue that a significant decline in the volume of imports of the subject merchandise from Japan, Taiwan, and Korea since the imposition of the orders provides further evidence that dumping would continue if the orders were revoked. In their substantive responses, the domestic interested parties provided statistics demonstrating the decline in import volumes of pipe and tube fittings from Japan, Korea, and Taiwan. The Department agrees with the domestic interested parties' arguments that imports of the subject merchandise fell sharply after the orders were imposed and never regained pre-order volumes.

As noted above, in conducting its sunset reviews, the Department considered the weighted-average dumping margins and volume of imports in determining whether revocation of these antidumping duty orders would lead to the continuation or recurrence of dumping. Based on this analysis, the Department finds that the existence of dumping margins at levels above de minimis and a reduction in export volumes after the issuance of the orders is highly probative of the likelihood of continuation or recurrence of dumping. A deposit rate above de minimis continues in effect for exports of the subject merchandise by all (except as indicated in footnotes 11 & 12) known Japanese,¹¹ Korean and Taiwanese,¹² manufacturers/exporters of the subject merchandise. Therefore, given that dumping has continued over the life of the orders, import volumes have declined significantly after the imposition of the order, respondent parties have waived participation in these reviews, and absent argument and evidence to the contrary, the Department determines that dumping is likely to continue or recur if the orders were revoked.

¹¹ One Japanese producer was excluded from the antidumping duty order based on a de minimis dumping margin calculated in the Final Less Than Fair Value Determination. Supra at footnote 1.

¹² As noted above, one Taiwanese producer/exporter currently has a de minimis dumping margin.

Magnitude of the Margin

In the Sunset Policy Bulletin, the Department stated that normally it will provide to the Commission the margin that was determined in the final determination in the original investigation. Further, for companies not specifically investigated or for companies that did not begin shipping until after the order was issued, the Department normally will provide a margin based on the “all others” rate from the investigation. See Sunset Policy Bulletin 63 FR 18873. Exceptions to this policy include the use of a more recently calculated margin, where appropriate, and consideration of duty-absorption determinations. See id. at 18873-74. To date, the Department has not issued any duty-absorption findings in any of these three cases.

In their substantive response, the domestic interested parties recommended that, consistent with the Sunset Policy Bulletin, the Department provide to the Commission the company-specific margins from the original investigations. Moreover, regarding companies not reviewed in the original investigations, the domestic interested parties suggested that the Department report the “all others” rates included in the original investigations.

The Department agrees with the domestic interested parties. The Department finds that the margins calculated in the original investigations are probative of the behavior of Japanese, Korean, and Taiwanese manufacturers/exporters if the orders were revoked as they are the only margins which reflect their actions absent the discipline of the order.

Therefore, the Department will report to the Commission the company-specific and all others rates from the original investigations as contained in the Final Results of Reviews section of this notice.

Final Results of Reviews

As a result of these reviews, the Department finds that revocation of the antidumping duty orders would likely lead to continuation or recurrence of dumping at the margins listed below:

Japan
Manufacturer/exporter | Margin (percent)
Mie Horo | 65.08
Nippon Benkan Kogyo, K.K | 37.24
All others | 49.31

Fuji Acetylene Industries, Co., Ltd. was excluded from the antidumping duty order based on a de minimis dumping margin calculated in the Final Less Than Fair Value Determination. See Final Determination of Sales at Less Than Fair Value: Certain Stainless Steel Butt-Weld Pipe Fittings from Japan, 53 FR 3227 (February 4, 1988).

Korea
Manufacturer/exporter | Margin (percent)
The Asia Bend Co. Ltd. | 21.20
All others | 21.20

Taiwan
Manufacturer/exporter | Margin (percent)
Tachia Yung Ho Machine Industry Co. Ltd. | 76.20
Ta Chen Stainless Pipe Co. Ltd. | 0.64
Tru-Flow Industrial Co., Ltd. | 76.20
All others | 51.01

This notice serves as the only reminder to parties subject to administrative protective order (“APO”) of their responsibility concerning the disposition of proprietary information disclosed under APO in accordance with 19 CFR 351.305 of the Department's regulations. Timely notification of return/destruction of APO materials or conversion to judicial protective order is hereby requested. Failure to comply with the regulations and the terms of an APO is a sanctionable violation.

This five-year (“sunset”) review and notice are in accordance with sections 751(c), 752, and 777(i)(1) of the Act.

Dated: January 28, 2000.
Holly A. Kuga,
Acting Assistant Secretary for Import Administration.

[FR Doc. 00-2584 Filed 2-3-00; 8:45 am]

BILLING CODE 3510-DS-P